DEPARTMENT OF TRANSPORTATION

Federal Aviation Administration

14 CFR Part 39

[Docket No. 2000-NM-62-AD; Amendment 39-11867; AD 2000-16-11]

RIN 2120-AA64

Airworthiness Directives; Airbus Model A330 and A340 Series Airplanes

AGENCY: Federal Aviation Administration, DOT.

ACTION: Final rule.

SUMMARY: This amendment adopts a new airworthiness directive (AD), applicable to certain Airbus Model A330 and A340 series airplanes, that requires repetitive inspections to check for backlash of the spherical bearing of the active aileron servo-controls, and follow-on corrective actions, if necessary. This amendment also provides optional terminating action for the repetitive inspections. This action is necessary to detect and correct excess backlash of the spherical bearing of the active aileron servo-controls, which could result in failure of the active aileron servo-controls and consequent reduced controllability of the airplane. This action is intended to address the identified unsafe condition.

DATES: Effective September 25, 2000.

The incorporation by reference of certain publications listed in the regulations is approved by the Director of the Federal Register as of September 25, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A330 and A340 series airplanes was published in the Federal Register on June 14, 2000 (65 FR 37315). That action proposed to require repetitive inspections to check for backlash of the spherical bearing of the active aileron servo-controls, and follow-on corrective actions, if necessary. The action also proposed to provide for optional terminating action for the repetitive inspections.

Comments

Interested persons have been afforded an opportunity to participate in the making of this amendment. No comments were submitted in response to the proposal or the FAA's determination of the cost to the public.

Conclusion

The FAA has determined that air safety and the public interest require the adoption of the rule as proposed.

Cost Impact

The FAA estimates that 3 airplanes of U.S. registry will be affected by this AD, that it will take approximately 20 work hours per airplane to accomplish the required inspection, and that the average labor rate is $60 per work hour. Based on these figures, the cost impact of the AD on U.S. operators is estimated to be $3,600, or $1,200 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption “ADDRESSES.”

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-16-11 Airbus Industrie: Amendment 39-11867. Docket 2000-NM-62-AD.

Applicability: Model A330 and A340 series airplanes, certificated in any category, except those airplanes on which Airbus Modification 47433 (Airbus Service Bulletin A330-27-3075 or A340-27-4081) or Airbus Modification 45512 (Airbus Service Bulletin A330-27-3054 or A340-27-4062) has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect and correct excess backlash of the spherical bearing of the active aileron servo-controls, which could result in failure of the active aileron servo-control and consequent reduced controllability of the airplane, accomplish the following:

Inspection

(a) Perform an inspection to check for backlash of the spherical bearing of the active aileron servo-controls, in accordance with Airbus Service Bulletin A330-27-3073, Revision 01 (for Model A330 series airplanes), or A340-27-4079, Revision 01 (for Model A340 series airplanes), each dated January 18, 2000; as applicable; at the applicable time specified in paragraph (a)(1) or (a)(2) of this AD.

(1) For airplanes that, as of the effective date of this AD, have accumulated 13,000 total flight hours or less: Perform the inspection within 6 months after the effective date of this AD, or within 6 months after accumulating 9,000 total flight hours, whichever occurs later.

(2) For airplanes that, as of the effective date of this AD, have accumulated more than 13,000 total flight hours: Perform the inspection within 3 months after the effective date of this AD.

Repetitive Inspections

(b) If, during the inspection required by paragraph (a) of this AD, no backlash is detected, or if any backlash is detected that is less than or equal to 0.2 millimeter (mm) (0.0078 inch) on all active aileron servo-controls, repeat the inspection required by paragraph (a) of this AD thereafter at intervals not to exceed 15 months or until the actions of paragraph (d) of this AD are accomplished on all active aileron servo-controls.

Corrective Actions

(c) If, during any inspection required by paragraph (a) or (b) of this AD, any backlash is detected that is more than 0.2 mm (0.0078 inch), prior to further flight, accomplish the requirements of either paragraph (c)(1) or (c)(2) of this AD, in accordance with Airbus Service Bulletin A330-27-3073, Revision 01 (for Model A330 series airplanes), or A340-27-4079, Revision 01 (for Model A340 series airplanes); each dated January 18, 2000; as applicable.

(1) Replace discrepant active aileron servo-controls with new ECP7 standard servo-controls in accordance with the applicable service bulletin, and repeat the inspection required by paragraph (a) of this AD thereafter at intervals not to exceed 15 months or until the requirements of paragraph (d) of this AD are accomplished; or

(2) Replace discrepant active servo-controls with ECP8 or ECP9 standard servo-controls, in accordance with the applicable service bulletin.

Note 2: Any inspection or replacement accomplished prior to the effective date of this AD, in accordance with Airbus Service Bulletin A330-27-3073 (for Model A330 series airplanes) or A340-27-4079 (for Model A340 series airplanes), each dated August 31, 1999, is considered acceptable for compliance with the applicable requirement specified by this AD.

Optional Terminating Action

(d) Replacement of all active servo-controls with ECP8 or ECP9 standard servo-controls, in accordance with Airbus Service Bulletins A330-27-3075, dated September 24, 1999, and A330-27-3054, Revision 01, dated November 8, 1999 (for Model A330 series airplanes); or A340-27-4081, dated September 24, 1999, and A340-27-4062, Revision 01, dated November 8, 1999 (for Model A340 series airplanes); as applicable; constitutes terminating action for the requirements of this AD.

Alternative Methods of Compliance

(e) An alternative method of compliance or adjustment of the compliance time that provides an acceptable level of safety may be used if approved by the Manager, International Branch, ANM-116, FAA Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with Airbus Service Bulletin A330-27-3073, Revision 01, dated January 18, 2000; Airbus Service Bulletin A340-27-4079, Revision 01, dated January 18, 2000; Airbus Service Bulletin A330-27-3075, dated September 24, 1999; Airbus Service Bulletin A330-27-3054, Revision 01, dated November 8, 1999; Airbus Service Bulletin A340-27-4081, dated September 24, 1999; and Airbus Service Bulletin A340-27-4062, Revision 01, dated November 8, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2000-014-108(B) and 2000-017-134(B), each dated January 12, 2000.

Effective Date

(h) This amendment becomes effective on September 25, 2000.

Issued in Renton, Washington, on August 10, 2000.
Donald L. Riggin,
Acting Manager, Transport Airplane Directorate, Aircraft Certification Service.

[FR Doc. 00-20775 Filed 8-18-00; 8:45 am]

BILLING CODE 4910-13-U